DEPARTMENT OF THE INTERIOR

Fish and Wildlife Service

[FWS-R2-ES-2016-N129; FXES11120200000-167-FF02ENEH00]

Receipt of an Application for an Incidental Take Permit for the American Burying Beetle, From American Electric Power, and Availability of Proposed Habitat Conservation Plan, Pittsburg County, Oklahoma

AGENCY: Fish and Wildlife Service, Interior.

ACTION: Notice of availability; request for public comments.

SUMMARY: Under the Endangered Species Act of 1973, as amended (Act), we, the Fish and Wildlife Service (Service), have received an application for an incidental take permit (ITP) and a proposed habitat conservation plan (HCP) from American Electric Power in Pittsburg County, Oklahoma. Our low-effect screening form (LESF), which supports a categorical exclusion for the HCP under the National Environmental Policy Act (NEPA), is also available for review. The requested permit, which would be in effect for a period of 3 years, if granted, would authorize incidental take of the American burying beetle resulting from the construction of two segments of the Talawanda to McAlester electric transmission line.

DATES: Comments: To ensure consideration, please send your written comments by October 12, 2016.

ADDRESSES: Obtaining Documents:

• Internet: You may obtain copies of the draft low-effect screening form and draft HCP on the Service's Web site at http://www.fws.gov/southwest/es/Oklahoma/.

• U.S. Mail: Field Supervisor, Oklahoma Ecological Services Field Office, 9014 East 21st Street, Tulsa, OK 74129; telephone 918-382-4500. Please note that your request is in reference to the American Electric Power (AEP) LEHCP (TE01909C).

• In-Person: Copies of the draft low-effect screening form and draft HCP are also available for public inspection and review at the following locations, by appointment and written request only, 8 a.m. to 4:30 p.m.:

○ Department of the Interior, Natural Resources Library, 1849 C St. NW., Washington, DC 20240.

○ U.S. Fish and Wildlife Service, 500 Gold Avenue SW., Room 6034, Albuquerque, NM 87201.

○ U.S. Fish and Wildlife Service, 9014 East 21st St., Tulsa, OK 74129; 918-382-4500 (phone); or 918-581-7467 (fax).

Persons wishing to review the application may obtain a copy by writing to the Regional Director, U.S. Fish and Wildlife Service, P.O. Box 1306, Room 4102, Albuquerque, NM 87103, Attention: Branch Chief, Environmental Review.

Comment submission: You may submit written comments by one of the following methods:

• Electronically: fw2_hcp_permits@fws.gov.

• By hard copy: U.S. Fish and Wildlife Service, 9014 East 21st St., Tulsa, OK 74129; calling 918-382-4500; or faxing 918-581-7467.

FOR FURTHER INFORMATION CONTACT: Jonna Polk, Field Supervisor, U.S. Fish and Wildlife Service, 9014 East 21st St., Tulsa, OK 74129; or by telephone at 918-382-4500.

SUPPLEMENTARY INFORMATION: Under the Act (16 U.S.C. 1531 et seq.), we have received an application for an ITP and a proposed HCP from AEP in Pittsburg County, Oklahoma. Our LESF, which supports a categorical exclusion for the HCP under NEPA (42 U.S.C. 4321, et seq.), is also available for review. The requested permit, which would be in effect for a period of 3 years, if granted, would authorize incidental take of the American burying beetle resulting from the construction of two segments of the Talawanda to McAlester electric transmission line.

Under NEPA, we advise the public that we have gathered the information necessary to determine impacts related to potential issuance of an ITP and have determined that the proposed action qualifies as a low-effect HCP and is categorically excluded from the NEPA process; and

In addition, the applicant has developed and proposes to implement its draft HCP, as part of the application for an ITP, which describes the measures the applicant has agreed to take to avoid, minimize, and mitigate the effects of the incidental take of American burying beetles (Nicrophorus americanus; ABB; covered species) to the maximum extent practicable pursuant to section 10(a)(1)(B) of the Act.

The requested permit would authorize incidental take of the ABB as a result of the construction of two segments along 2.11 miles of the Talawanda to McAlester transmission line in Pittsburg County, OK (Permit Area), as a result of activities associated with the applicant's construction and maintenance activities (covered activities). Such actions may require disturbance within potential American burying beetle habitat. American Electric Power has proposed to mitigate the impacts to 13.07 acres of suitable habitat for the American burying beetle, including 10.42 acres of temporary impacts, 2.65 acres of permanent cover change (changing of vegetative successional stage, but remaining as suitable ABB habitat), and 0.006 acres of permanent change (changing of ABB habitat from suitable to non-suitable). These habitat acres will be mitigated in perpetuity according to Service-approved mitigation ratios through the purchase of credits at an approved conservation bank for ABB. Additionally, avoidance and minimization measures will be implemented including limiting clearing in temporary work areas, relief of soil compaction, and revegetation of temporary and permanent cover change impacts with native vegetation after construction is completed.

Section 9 of the Act and its implementing regulations prohibit “take” of fish and wildlife species listed as threatened or endangered under section 4 of the Act. However, section 10(a) of the Act authorizes us to issue permits to take listed wildlife species where such take is incidental to, and not the purpose of, otherwise lawful activities and where the applicant meets certain statutory requirements.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act (16 U.S.C. 1531 et seq.) and its implementing regulations (50 CFR 17.22) and NEPA (42 U.S.C. 4321 et seq.) and its implementing regulations (40 CFR 1506.6).

Joy E. Nicholopoulos,
Regional Director, Southwest Region, Albuquerque, New Mexico.

[FR Doc. 2016-21412 Filed 9-9-16; 8:45 am]

BILLING CODE 4333-15-P